DEPARTMENT OF LABOR

Employment and Training Administration

[TA-W-80,396]

GE Oil & Gas Operations, LLC Including On-Site Leased Workers From Adecco, Argus Technical, Inc., Fox Valley Metrology URS Corp. and CompuCom Oshkosh, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 28, 2011, applicable to workers of GE Oil & Gas Operations, LLC, including on-site leased workers from Adecco and Argus Technical, Inc., Oshkosh, Wisconsin. The workers are engaged in activities related to the production of high speed reciprocating and centrifugal compressors primarily used in the oil and gas industry. The notice was published in the Federal Register on October 20, 2011 (76 FR 65214).

At the request of a company official, the Department reviewed the certification for workers of the subject firm. New information shows that workers leased from Fox Valley Metrology, URS Corp. and CompuCom were employed on-site at the Oshkosh, Wisconsin location of GE Oil & Gas Operations, LLC. The Department has determined that these workers were sufficiently under the control of GE Oil & Gas Operations, LLC to be considered leased workers.

The intent of the Department's certification is to include all workers of the subject firm adversely affected by increased company imports of high speed reciprocating and centrifugal compressors primarily used in the oil and gas industry.

Based on these findings, the Department is amending this certification to include workers leased from Fox Valley Metrology, URS Corp. and CompuCom working on-site at the Oshkosh, Wisconsin location of the subject firm.

The amended notice applicable to TA-W-80,396 is hereby issued as follows:

All workers of GE Oil & Gas Operations, LLC, including on-site leased workers from Adecco, Argus Technical, Inc., Fox Valley Metrology, URS Corp. and CompuCom, Oshkosh, Wisconsin, who became totally or partially separated from employment on or after August 26, 2010, through September 28, 2013, are eligible to apply for adjustment assistance under Section 223 of the Trade Act of 1974, and are also eligible to apply for alternative trade adjustment assistance under Section 246 of the Trade Act of 1974.

Signed at Washington, DC, this 30th day of January 2012.
Elliott S. Kushner,
Certifying Officer, Office of Trade Adjustment Assistance.

[FR Doc. 2012-2890 Filed 2-7-12; 8:45 am]

BILLING CODE 4510-FN-P